DEPARTMENT OF DEFENSE

Department of the Army, Corps of Engineers

New York and New Jersey Harbor Anchorages General Reevaluation Study NEPA Scoping Meeting and Public Comment Period

AGENCY: Department of the Army, U.S. Army Corps of Engineers, DoD.

ACTION: Notice of Intent/NEPA Scoping meeting and public comment period.

SUMMARY: In accordance with all applicable laws and regulations, the U.S. Army Corps of Engineers (USACE) plans to prepare a General Reevaluation Study (GRR) with an integrated Environmental Impact Statement (EIS) to evaluate environmental impacts from reasonable project alternatives and to determine the potential for significant impacts related to the improvement of the anchorages included in the Federal navigation project to take into account changed conditions and/or assumptions since the original feasibility study was completed in 2000. The GRR will address the need for anchorage areas capable of safely accommodating the vessels navigating the anchorages at present and reasonably projected to be navigating them in the future; or find that no plan is currently justified.

DATES: Scoping comments may be submitted until December 10, 2018.

ADDRESSES: The public is invited to submit NEPA scoping comments at the meeting and/or submit comments to Mr. David Schulte, Department of the Army, U.S. Army Corps of Engineers, Norfolk District, Fort Norfolk, 803 Front St., Norfolk, VA 23510 or via email: David.M.Schulte@usace.army.mil. The project title and the commenter's contact information should be included with submitted comments.

FOR FURTHER INFORMATION CONTACT: David Schulte, (757) 201-7007.

SUPPLEMENTARY INFORMATION: Applicable laws and regulations are section 102(2)(C) of the National Environmental Policy Act (NEPA) of 1969, as amended, 42 U.S.C. 4321-4370, as implemented by the Council on Environmental Quality Regulations (40 CFR parts 1500-1508). The primary problem is that existing Federal anchorages in the harbor are insufficient in meeting the variety of functions (ex. security and U.S. Coast Guard inspections, lightering, bunkering/refueling, waiting areas, and emergency “bailout” areas) they are used for as part of normal harbor operations, which reduces vessel safety and cargo transportation efficiency. Multiple issues have been identified by key harbor users and stakeholders. There is not enough anchorage area to accommodate all of the vessels that need to anchor for various reasons. The dimensions of existing anchorages cannot accommodate vessels larger than 1100 foot LOA (length overall) which is a significant portion of the vessels that regularly call on the harbor and anchored vessels regularly swing out into the navigation channel. Vessels are currently forced to wait outside the harbor in the ocean due to a lack of anchorage availability and/or anchorage areas designed for larger vessels.

USACE is the lead federal agency and the Port Authority of New York and New Jersey will be the non-federal sponsor for the study. The GRR will address the primary problem of the New York and New Jersey Harbor Anchorages by studying all reasonable alternatives and determine the Federal interest in cost-sharing for those alternatives.

As required by Council on Environmental Quality's Principles, Requirements and Guidelines for Water and Land Related Resources Implementation Studies all reasonable alternatives to the proposed Federal action that meet the purpose and need will be considered in the EIS. These alternatives will include no action and a range of reasonable alternatives for improving navigation in the New York & New Jersey Harbor Anchorages.

Scoping/Public Involvement. The public NEPA scoping meeting will be held on November 8, 2018, from 5 p.m.-8 p.m. It will be held at the GSA Building, conference rooms 1-3 on the 30th floor, at 290 Broadway, New York, NY 10007. Federal, state, and local agencies, Indian tribes, and the public are invited to provide scoping comments to identify issues and potentially significant effects to be considered in the analysis.

Brenda S. Bowen,
Army Federal Register Liaison Officer.

[FR Doc. 2018-23879 Filed 10-31-18; 8:45 am]

BILLING CODE 3720-58-P